OFFICE OF THE UNITED STATES TRADE REPRESENTATIVE

Generalized System of Preferences (GSP): Notice of Special GSP Review of Product Petitions for Argentina, Philippines and Turkey

AGENCY: Office of the United States Trade Representative.

ACTION: Notice.

SUMMARY: This notice announces a Special Review of product petitions for Argentina, Philippines, and Turkey, received in the 2001 GSP Annual Review for modifications in the list of articles that are eligible for duty-free treatment under the GSP program, and sets forth the schedule for comment and public hearing on these petitions, for requesting participation in the hearing, and for submitting pre-hearing and post-hearing briefs. Notices providing information regarding the acceptance of other petitions submitted in the 2001 GSP Annual Review and regarding the initiation of a 2002 GSP Annual Review will be published in the Federal Register in September 2002.

FOR FURTHER INFORMATION CONTACT: GSP Subcommittee, Office of the United States Trade Representative (USTR), 1724 F Street, NW., Room F-220, Washington, DC 20508. The telephone number is (202) 395-6971 and the facsimile number is (202) 395-9481.

SUPPLEMENTARY INFORMATION: The GSP program grants duty-free treatment to designated eligible articles that are imported from designated beneficiary developing countries. The GSP program is authorized by Title V of the Trade Act of 1974, as amended (“Trade Act”) (19 U.S.C. 2461 et seq.), and is implemented in accordance with Executive Order 11888 of November 24, 1975, as modified by subsequent Executive Orders and Presidential Proclamations, and is administered in accordance with GSP regulations (15 CFR part 2007). The GSP program expired on September 30, 2001, but was renewed retroactively by section 4101 of Public Law 107-210 through December 31, 2006.

Announcement of a Special Review of Products for Argentina, Philippines and Turkey

In a Federal Register notice dated April 13, 2001, USTR initiated the 2001 GSP Annual Review and announced a deadline of June 13, 2001, for the filing of petitions (66 FR 19278). The received product petitions requested changes in the eligibility of products by adding or removing products, or by waiving the “competitive need limitations” (CNLs) for a country for eligible articles. Authorization for granting CNLs waivers is set forth in section 503(d) of the Trade Act (19 U.S.C. 2463(d)).

The interagency GSP Subcommittee of the Trade Policy Staff Committee (TPSC) has reviewed the petitions and decided to initiate a Special Review of petitions from Argentina, Philippines and Turkey involving 17 products. The Annex to this notice sets forth the case number, product identification, the change requested and the petitioner for each product included in this review. Acceptance of a petition for review does not indicate any opinion with respect to disposition on the merits of the petition. Acceptance indicates only that the listed petitions have been found eligible for review by the GSP Subcommittee and that such review will take place.

Any modifications to the list of articles eligible for duty-free treatment under the GSP resulting from this Special Review will be announced on or about January 31, 2003, and any changes may take effect 30 days from publication in the Federal Register.

Opportunities for Public Comment and Inspection of Comments

The GSP Subcommittee of the TPSC invites comments in support of or in opposition to any petition which is the subject of this Special Review. Submissions should comply with 15 CFR Part 2007, including sections 2007.0 and 2007.1. All submissions should identify the subject article(s) in terms of the current Harmonized Tariff Schedule of the United States (HTS) nomenclature. The Public Comment and Hearing Schedule is included as part of the Annex.

Requirements for Submissions

In order to facilitate prompt processing of submissions, USTR strongly urges and prefers electronic e-mail submissions in response to this notice. In the event that an e-mail submission is impossible, submissions should be made by facsimile. These submissions should be single copy transmissions in English with the total submission not to exceed 50 single-spaced pages. Persons making submissions by e-mail should use the following subject line: “2001 Special 3-Country Review” followed by the Case Number (for example, 2001-SR-01) found in the annex and, as appropriate “Written Comments”, “Notice of Intent to Testify”, “Pre-hearing brief”, “Testimony”, “Post-hearing brief” or “Comments on USITC Advice”. Documents, in English, should be submitted as either WordPerfect (.WPD), MSWord (.DOC), or text (.TXT) files. Supporting documentation submitted as spreadsheets are acceptable as Quattro Pro or Excel suitable for printing only on 8½ x 11 inch paper.

Facsimile submissions should include, among other identifying information specified in the regulations, the following information at the top of the first page: “2001 Special 3-Country Review” followed by the Case Number found in the annex and, as appropriate “Written Comments”, “Notice of Intent to Testify”, “Pre-hearing brief”, “Testimony”, “Post-hearing brief” or “Comments on USITC Advice”.

For any document containing business confidential information submitted electronically, the file name of the business confidential version should begin with the characters “BC-”, and the file name of the public version should begin with the characters “P-”. The “P-” or “BC-” should be followed by the name of the submitter. Persons who make submissions by e-mail should not provide separate cover letters; information that might appear in a cover letter should be included in the submission itself. To the extent possible, any attachments to the submission should be included in the same file as the submission itself, and not as separate files. The e-mail address for these submissions is FR0031@USTR.GOV.

Information submitted will be subject to public inspection shortly after the due date by appointment with the staff of the USTR public reading room, except for information granted “business confidential” status pursuant to 15 CFR 2003.6 and other qualifying information submitted in confidence pursuant to 15 CFR 2007.7. If the original document contains business confidential information, a nonconfidential version must be submitted along with the confidential version. In addition, the document containing confidential information should be clearly marked “CONFIDENTIAL” at the top and bottom of each page of the document. The version that does not contain business confidential information (the public version) should also be clearly marked at the top and bottom of every page (either “PUBLIC VERSION” or “NONCONFIDENTIAL”). Comments must be submitted by 5 p.m., September 30, 2002. Comments by interested persons on the nonconfidential USITC report prepared as part of this product review must be submitted, in English, by 5 p.m., January 8, 2003.

Public versions of all documents relating to this review will be available for review shortly after the due date by appointment in the USTR public reading room, 1724 F Street NW., Washington, DC. Appointments may be made from 9:30 a.m. to noon and 1 p.m. to 4 p.m., Monday through Friday by calling (202) 395-6186.

Notice of Public Hearings

Hearings will be held on October 18, 2002 beginning at 10 a.m. at the Office of the United States Trade Representative, 1724 F Street, NW., Washington, DC 20508. The hearings will be open to the public and a transcript of the hearings will be made available for public inspection or can be purchased from the reporting company. No electronic media coverage will be allowed.

All interested parties wishing to make an oral presentation at the hearings must submit the name, address, telephone number, and facsimile number of the witness(es) representing their organization to the Chairman of the GSP Subcommittee by 5 p.m., September 30, 2002. Requests to present oral testimony in connection with the public hearings must be accompanied by a written brief or statement, in English, and also must be received by 5 p.m., September 30, 2002. Oral testimony before the GSP Subcommittee will be limited to five-minute presentations that summarize or supplement information contained in briefs or statements submitted for the record. Post-hearing briefs or statements will be accepted if they conform with the regulations cited above and are submitted, in English, by 5 p.m., November 13, 2002. Parties not wishing to appear at the public hearings may submit pre-hearing written briefs or statements, in English, by 5 p.m., September 30, 2002, and may submit post-hearing written briefs or statements, in English, by 5 p.m., November 13, 2002.

Steven Falken,
Chairman, GSP Subcommittee.

BILLING CODE 3901-01-P

[FR Doc. 02-21965 Filed 8-27-02; 8:45 am]

BILLING CODE 3901-01-C